DEPARTMENT OF LABOR

Employment and Training Administration

[TA-W-59,600]

Cooper Hand Tools Nicholson File; Cullman, AL; Notice of Termination of Investigation

Pursuant to section 221 of the Trade Act of 1974, an investigation was initiated on June 21, 2006 in response to a petition filed by a company official on behalf of workers at Cooper Hand Tools, Nicholson File, Cullmam, Alabama.

The petitioner has requested that the petition be withdrawn. Consequently, the investigation has been terminated.

Signed in Washington, DC, this 27th day of June 2006.
Elliott S. Kushner,
Certifying Officer, Division of Trade Adjustment Assistance.

[FR Doc. E6-11867 Filed 7-24-06; 8:45 am]

BILLING CODE 4510-30-P